NUCLEAR REGULATORY COMMISSION

[Project No. 753; NRC-2011-0277]

Model Safety Evaluation for Plant-Specific Adoption of Technical Specifications Task Force Traveler TSTF-505, Revision 1, “Provide Risk-Informed Extended Completion Times—RITSTF Initiative 4B”

AGENCY: Nuclear Regulatory Commission.

ACTION: Notice of Availability.

SUMMARY: The U.S. Nuclear Regulatory Commission (NRC) is announcing the availability of the model safety evaluation (SE) for plant-specific adoption of Technical Specifications (TS) Task Force (TSTF) Traveler TSTF-505, Revision 1, “Provide Risk-Informed Extended Completion Times—RITSTF Initiative 4B.”

The proposed amendment would modify the TS requirements related to Completion Times (CTs) for Required Actions to provide the option to calculate a longer, risk-informed CT. A new program, the Risk-Informed Completion Time (RICT) Program, is added to TS Section 5, Administrative Controls. The proposed change revises the Improved Standard Technical Specification, NUREG-1430, -1431, -1432, -1433, and -1434.

ADDRESSES: Please refer to Docket ID NRC-2011-0277 when contacting the NRC about the availability of information regarding this document. You may access information related to this document, which the NRC possesses and is publicly available, using the following methods:

• Federal Rulemaking Web site: Go to http://www.regulations.gov and search for Docket ID NRC-2011-0277. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. TSTF-505, Revision 1, is available in ADAMS under Accession No. ML111650552; the model application is available in ADAMS under Accession No. ML12032A065. The model SE for plant-specific adoption of TSTF-505, Revision 1, is available under ADAMS Accession No. ML120200401. The NRC staff disposition of comments received to the Notice of Opportunity for Public Comment announced in the Federal Register on November 29, 2011 (76 FR 73737), is available under ADAMS Accession No. ML120200484.

• NRC's PDR: You may examine and purchase copies of public documents at the NRC's PDR, Room O1-F21, One White Flint North, 11555 Rockville Pike, Rockville, Maryland 20852.

FOR FURTHER INFORMATION CONTACT: Ms. Michelle C. Honcharik, Senior Project Manager, Licensing Processes Branch, Mail Stop: O-12 D1, Division of Policy and Rulemaking, Office of Nuclear Reactor Regulation, U.S. Nuclear Regulatory Commission, Washington, DC, 20555-0001; telephone 301-415-1774 or email at Michelle.Honcharik@nrc.gov or Ms. Kristy Bucholtz, Technical Specifications Branch, Mail Stop: O-7 C2A, Division of Safety Systems, Office of Nuclear Reactor Regulation, U.S. Nuclear Regulatory Commission, Washington, DC, 20555-0001; telephone 301-415-1295 or email; Kristy.Bucholtz@nrc.gov.

SUPPLEMENTARY INFORMATION: TSTF-505, Revision 1, is applicable to all nuclear powered reactors. TSTF-505 revises the TS to (1) add a new RICT program to the Administrative Controls of TS, (2) modify selected Required Actions to permit extending the CTs, provided risk is assessed and managed within an acceptable configuration risk management program (CRMP), (3) add new Conditions, Required Actions, and CTs to address conditions not currently addressed in TS, and (4) add a new example in TS Section 1.3, to describe application of the RICT Program. The model SE will facilitate approval of plant-specific adoption of TSTF-505, Revision 1.

The NRC staff has reviewed the model application for TSTF-505 and has found it acceptable for use by licensees. Licensees opting to apply for this TS change are responsible for reviewing the NRC staff SE and the applicable technical bases, providing any necessary plant-specific information, and assessing the completeness and accuracy of their license amendment request (LAR). The NRC will process each amendment application responding to the Notice of Availability according to applicable NRC rules and procedures.

The proposed changes do not prevent licensees from requesting an alternate approach or proposing changes other than those proposed in TSTF-505, Revision 1. However, significant deviations from the approach recommended in this notice or the inclusion of additional changes to the license will require additional NRC staff review. This may increase the time and resources needed for the review or result in NRC staff rejection of the LAR. Licensees desiring significant deviations or additional changes should instead submit an LAR that does not claim to adopt TSTF-505, Revision 1.

Dated at Rockville, Maryland, this 6th day of March 2012.
For the Nuclear Regulatory Commission.
John R. Jolicoeur,
Chief, Licensing Processes Branch, Division of Policy and Rulemaking, Office of Nuclear Reactor Regulation.

[FR Doc. 2012-6259 Filed 3-14-12; 8:45 am]

BILLING CODE 7590-01-P